DEPARTMENT OF JUSTICE

Antitrust Division

Notice Pursuant to the National Cooperative Research and Production Act of 1993—International Electrotechnical Commission Technical Committee Subcommittee 37B

Notice is hereby given that, on September 17, 2004, pursuant to section 6(a) of the National Cooperative Research and Production Act of 1993, 15 U.S.C. 4301 et seq. (“the Act”), International Electrotechnical Commission Technical Committee Subcommittee 37B (“IEC TC SC 37B”), by its Secretariat, National Electrical Manufacturers Association (“NEMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization: International Electrotechnical Commission Technical Committee Subcommittee 37B, Rosslyn, VA. The nature and scope of IEC TC SC 37B's standards development activities are: related to components used in low voltage surge protection devices. IEC TC SC 37B currently maintains a series of IEC 61643 standards dealing with general requirements for these components in different types of surge protection devices. The standards developed by IEC TC SC 37B are published by NEMA.

Dorothy B. Fountain,
Deputy Director of Operations, Antitrust Division.

[FR Doc. 05-1983 Filed 2-1-05; 8:45 am]

BILLING CODE 4410-11-M